NATIONAL FOUNDATION ON THE ARTS AND HUMANITIES

National Endowment for the Arts; Submission of OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of the ICR, with applicable supporting documentation, may be obtained by contacting Sunil Iyengar via telephone at 202-682-5654 (this is not a toll-free number) or e-mail at research@arts.endow.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

Agency: National Endowment for the Arts.

Title: 2012 Survey of Public Participation in the Arts.

OMB Number: New.

Frequency: One Time.

Affected Public: American adults.

Estimated Number of Respondents: 36,000.

Estimated Time per Respondent: 10.0 minutes.

Total Burden Hours: 6,000 hours.

Total Annualized Capital/Startup Costs: 0.

Total Annual Costs (Operating/Maintaining Systems or Purchasing Services): 0.

Description: This request is for clearance of the 2012 Survey of Public Participation in the Arts (SPPA) to be conducted by the Census Bureau in May 2012 as a supplement to the Bureau of Labor Statistic's Current Population Survey. The SPPA is the field's premiere repeated cross sectional survey of individual attendance and involvement in arts and cultural activity. The data are circulated to interested researchers, and they are the basis for a range of NEA reports and independent research publications. The SPPA provides primary knowledge on the extent and nature of participation in the arts in the United States. Earlier SPPA surveys were conducted in 1982, 1985, 1992, 1997, 2002, and 2008, all of which were conducted by the Census Bureau except the 1997 study, which was conducted by a private contractor, Westat Inc.

Addresses: Sunil Iyengar, National Endowment for the Arts, 1100 Pennsylvania Avenue, NW., Room 616, Washington, DC 20506-0001, telephone (202) 682-5654 (this is not a toll-free number), fax (202) 682-5677.

Kathleen Edwards,
Support Services Supervisor, Administrative Services, National Endowment for the Arts.

[FR Doc. 2011-3744 Filed 2-17-11; 8:45 am]

BILLING CODE 7537-01-P